NUCLEAR REGULATORY COMMISSION

Sunshine Act Meeting Notice

Agency Holding the Meeting: Nuclear Regulatory Commission.

Dates: Weeks of October 13, 20, 27, November 3, 10, 17, 2003.

Place: Commissioners' Conference Room 11555 Rockville Pike, Rockville, Maryland.

Status: Public and Closed.

Matters to be Considered:

Week of October 13, 2003

Wednesday, October 15, 2003

1:30 p.m.—Briefing on License Renewal Program, Power Uprate Activities, and High Priority Activities (Public Meeting) (Contact: Jimi Yerokun, 301-415-2293).

This meeting will be webcast live at the Web address— http://www.nrc.gov.

Week of October 20, 2003—Tentative

Thursday, October 23, 2003

10 a.m.—Meeting with Advisory Committee on Nuclear Waste (ACNW) (Public Meeting) (Contact: John Larkins, 301-415-7360).

This meeting will be webcast live at the Web address— http://www.nrc.gov.

Week of October 27, 2003—Tentative

Wednesday, October 29, 2003

9:30 a.m.—discussion of Security Issues (Closed—Ex. 1).

Week of November 3, 2003—Tentative

There are no meetings scheduled for the Week of November 3, 2003.

Week of November 10, 2003—Tentative

There are no meetings scheduled for the Week of November 10, 2003.

Week of November 17, 2003—Tentative

Thursday, November 20, 2003

12:45 p.m.—Briefing on Threat Environment Assessment (Closed—Ex. 1).

* The schedule for Commission meetings is subject to change on short notice. To verify the status of meetings call (recording)—(301) 415-1292. Contact person for more information: David Louis Gamberoni (301) 415-1651.

* * * * *

SUPPLEMENTARY INFORMATION: “Briefing on Strategic Workforce Planning and Human Capital Initiatives (Closed—Ex. 2),” originally scheduled for October 7, 2003, was not held.

* * * * *

The NRC Commission Meeting Schedule can be found on the Internet at: http://www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically. please send an electronic message to dkw@nrc.gov.

Dated: October 9, 2003.
D.L. Gamberoni,
Technical Coordinator, Office of the Secretary.

[FR Doc. 03-26134 Filed 10-10-03; 11:18 am]

BILLING CODE 7590-01-M